DEPARTMENT OF ENERGY

Federal Energy Regulatory Commission

[Docket No. RM10-11-000]

Integration of Variable Energy Resources; Notice Of Filing Procedures for Order No. 764 Electronic Compliance Filings

Take notice of the following filing procedures with respect to compliance obligations in Integration of Variable Energy Resources, Order No. 764, FERC Stats. & Regs. ¶ 31,331, order on reh'g, Order No. 764-A, 141 FERC ¶ 61,232 (2012), order on reh'g, Order No. 764-B, 144 FERC ¶ 61,222 (2013).

All compliance filings must be submitted in accordance with the Commission's electronic tariff filing (eTariff) requirements in Electronic Tariff Filings, Order No. 714, FERC Stats. & Regs. ¶ 31,276 (2008). To designate one's filing a compliance filing, the filer must select the Type of Filing Code, for example “80” for traditional utilities. In addition, for the description in the Commission's Notices and eLibrary, filers are asked to title such filings “OATT Order No. 764 Compliance Filing” in the eTariff Filing Title field and in the Description field in eFiling.

The filer may request a specific effective date, or, if the date is not yet known (as in the case where the filer wants the tariff sheet(s) to be effective the day after the Commission issues the order addressing its Order No. 764 compliance filing), the filer may request that the Commission designate the effective date by (1) explaining this in the filer's transmittal letter submitted with its eTariff filing and (2) entering the tariff record proposed effective date in eTariff as 12/31/9998.

Dated: October 15, 2013.
Kimberly D. Bose,
Secretary.

[FR Doc. 2013-28931 Filed 12-3-13; 8:45 am]

BILLING CODE 6717-01-P